FEDERAL MARITIME COMMISSION

[Docket No. 11-15]

CITGO Refining and Chemicals Company L.P. v. Port of Corpus Christi Authority of Nueces County, Texas; Notice of Filing of Complaint and Assignment

Notice is given that a complaint has been filed with the Federal Maritime Commission (Commission) by CITGO Refining and Chemicals Company L.P., hereinafter “Complainant,” against the Port of Corpus Christi Authority of Nueces County, Texas (PCCA) hereinafter “Respondent.” Complainant asserts that it is a limited partnership duly organized and existing under the laws of the State of Delaware, operating a petroleum refinery at two locations along the Corpus Christi Ship Channel. Complainant alleges that Respondent is a marine terminal operator and a “navigation district and political sub-division of the State of Texas.”

Complainant alleges that it “has been charged wharfage and other charges calculated as a percentage thereof that are excessive and not reasonably related to the value of services rendered to CITGO.” Further, “[t]hrough application of such charges, CITGO has been forced to subsidize costs associated with services provided to other users of port facilities.” Complainant alleges that because of these actions and because Respondent is “unreasonably refusing to deal or negotiate with CITGO,” the Port “has violated and continues to violate the Shipping Act, 46 U.S.C. 41106(2) and (3) and 41102(c).” Complainant requests the Commission issue an order “[c]ommanding the PCCA to cease and desist from engaging in the aforesaid violations of the Shipping Act; putting in force such practices as the Commission determines to be lawful and reasonable; and * * * [c]ommanding the PCCA to pay to CITGO reparations for violations of the Shipping Act, including the amount of the actual injury, plus interest, costs and attorneys fees; and * * * [c]ommanding any other such relief as the Commission determines appropriate.” The full text of the complaint can be found in the Commission's Electronic Reading Room at http://www.fmc.gov.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by September 4, 2012 and the final decision of the Commission shall be issued by January 4, 2013.

Karen V. Gregory,
Secretary.

[FR Doc. 2011-23070 Filed 9-8-11; 8:45 am]

BILLING CODE 6730-01-P